DEPARTMENT OF TRANSPORTATION

Federal Aviation Administration

14 CFR Part 39

[Docket No. FAA-2009-0399; Directorate Identifier 2008-NM-226-AD; Amendment 39-16060; AD 2009-22-09]

RIN 2120-AA64

Airworthiness Directives; Bombardier Model CL-600-2C10 (Regional Jet Series 700, 701 & 702), CL-600-2D15 (Regional Jet Series 705), and CL-600-2D24 (Regional Jet Series 900) Airplanes

AGENCY: Federal Aviation Administration (FAA), Department of Transportation (DOT).

ACTION: Final rule.

SUMMARY: We are adopting a new airworthiness directive (AD) for the products listed above. This AD results from mandatory continuing airworthiness information (MCAI) originated by an aviation authority of another country to identify and correct an unsafe condition on an aviation product. The MCAI describes the unsafe condition as:

A change in dimensions of the fuse blocks in the Auxiliary Power Unit (APU) Start Contactor Assembly (ASCA) box assembly can cause an incorrect interface between the bus bars and fuses. This condition can result in an increase in temperature, which could damage the ASCA box and/or compromise the availability of battery bus supply.

The unsafe condition could result in the ignition of a fire in the ASCA box. We are issuing this AD to require actions to correct the unsafe condition on these products.

DATES: This AD becomes effective December 3, 2009.

The Director of the Federal Register approved the incorporation by reference of a certain publication listed in this AD as of December 3, 2009.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Wing Chan, Aerospace Engineer, Avionics and Flight Test Branch, ANE-172, FAA, New York Aircraft Certification Office, 1600 Stewart Avenue, Suite 410, Westbury, New York 11590; telephone (516) 228-7311; fax (516) 794-5531.

SUPPLEMENTARY INFORMATION:

Discussion

We issued a notice of proposed rulemaking (NPRM) to amend 14 CFR part 39 to include an AD that would apply to the specified products. That NPRM was published in the Federal Register on April 30, 2009 (74 FR 19902). That NPRM proposed to correct an unsafe condition for the specified products. The MCAI states:

A change in dimensions of the fuse blocks in the Auxiliary Power Unit (APU) Start Contactor Assembly (ASCA) box assembly can cause an incorrect interface between the bus bars and fuses. This condition can result in an increase in temperature, which could damage the ASCA box and/or compromise the availability of battery bus supply.

The unsafe condition could result in the ignition of a fire in the ASCA box. The required actions include inspecting the ASCA boxes to determine the part number; and for certain ASCA boxes, doing a detailed inspection of the fuse block date code, and replacing the fuse block with new hardware if necessary. You may obtain further information by examining the MCAI in the AD docket.

Comments

We gave the public the opportunity to participate in developing this AD. We considered the comment received.

Request To Change Compliance Time for Replacement

American Eagle Airlines (AEA) requests that the compliance time in paragraph (f)(1) of the NPRM for replacing the fuse blocks be changed from “before further flight” to within 1,500 flight hours after the effective date of this AD. AEA explains that the new compliance time will give operators the benefit of knowing how much down-time will be needed to replace the fuse blocks, while keeping to the restrictions of 1,500 flight hours required for inspecting the ASCA box.

We disagree with the request. While we recognize that changing the compliance time for replacing the fuse blocks from “before further flight” to within 1,500 flight hours after the effective date of this AD benefits the operators in their planning, we find that, to achieve an adequate level of safety for the affected airplanes, fuse blocks known to be un-airworthy must be replaced before further flight. We have made no change to this AD in this regard.

Request To Allow a Records Check in Lieu of Inspection To Determine Part Number

AEA requests that a records check be allowed, if sufficient records exist, to comply with the inspection of the ASCA box to determine the part numbers. AEA explains that the records check would potentially prevent unnecessary inspections.

We agree. We have determined that a review of the airplane maintenance records is acceptable in lieu of the inspection to determine the part number of the ASCA boxes if the part number of the ASCA boxes can be conclusively determined from that review. We have revised paragraph (f)(1) of this AD accordingly.

Conclusion

We reviewed the available data, including the comments received, and determined that air safety and the public interest require adopting the AD with the change described previously. We determined that this change will not increase the economic burden on any operator or increase the scope of the AD.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a NOTE within the AD.

Costs of Compliance

We estimate that this AD affects 108 products of U.S. registry. We also estimate that it takes about 5 work-hours per product to comply with the basic requirements of this AD. The average labor rate is $80 per work-hour. Based on these figures, we estimate the cost of this AD to U.S. operators to be $43,200, or $400 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2009-22-09 Bombardier (Formerly Canadair): Amendment 39-16060. Docket No. FAA-2009-0399; Directorate Identifier 2008-NM-226-AD.

Effective Date

(a) This airworthiness directive (AD) becomes effective December 3, 2009.

Affected ADs

(b) None.

Applicability

(c) This AD applies to the airplanes, certificated in any category, identified in paragraphs (c)(1) and (c)(2) of this AD.

(1) Bombardier Model CL-600-2C10 (Regional Jet Series 700, 701 & 702), serial numbers 10112 through 10199 inclusive, and 10201 through 10206 inclusive.

(2) Bombardier Model CL-600-2D15 (Regional Jet Series 705) and CL-600-2D24 (Regional Jet Series 900), serial numbers 15007 through 15026 inclusive, 15030, and 15031.

Subject

(d) Air Transport Association (ATA) of America Code 49: Airborne Auxiliary Power.

Reason

(e) The mandatory continuing airworthiness information (MCAI) states:

A change in dimensions of the fuse blocks in the Auxiliary Power Unit (APU) Start Contactor Assembly (ASCA) box assembly can cause an incorrect interface between the bus bars and fuses. This condition can result in an increase in temperature, which could damage the ASCA box and/or compromise the availability of battery bus supply.

The unsafe condition could result in the ignition of a fire in the ASCA box. The required actions include inspecting the ASCA boxes to determine the part number; and for certain ASCA boxes, doing a detailed inspection of the fuse block date code, and replacing the fuse block with new hardware if necessary.

Actions and Compliance

(f) Unless already done, do the following actions:

(1) Within 1,500 flight hours after the effective date of this AD, inspect the ASCA box to determine the part number and, for ASCA boxes having part number (P/N) BA670-53328-1 or BA670-53328-951, perform a detailed inspection of the fuse block date code, in accordance with Bombardier Service Bulletin 670BA-49-012, Revision A, dated August 28, 2008. Before further flight, replace all fuse blocks that have a date code between K23 (0323) through M08 (0508) inclusive, in accordance with Bombardier Service Bulletin 670BA-49-012, Revision A, dated August 28, 2008. A review of airplane maintenance records is acceptable in lieu of the inspection to determine the part number of the ASCA boxes if the part number of the ASCA boxes can be conclusively determined from that review.

(2) Inspections and replacement actions are also acceptable for compliance with the requirements of paragraph (f)(1) of this AD, if done before the effective date of this AD in accordance with Bombardier Service Bulletin 670BA-49-012, dated June 28, 2007.

FAA AD Differences

Note 1: This AD differs from the MCAI and/or service information as follows: No differences.

Other FAA AD Provisions

(g) The following provisions also apply to this AD:

(1) Alternative Methods of Compliance (AMOCs): The Manager, Systems and Flight Test Branch, ANE-172, FAA, has the authority to approve AMOCs for this AD, if requested using the procedures found in 14 CFR 39.19. Send information to ATTN: Wing Chan, Aerospace Engineer, Avionics and Flight Test Branch, ANE-172, FAA, New York Aircraft Certification Office, 1600 Stewart Avenue, Suite 410, Westbury, New York 11590; telephone (516) 228-7311; fax (516) 794-5531. Before using any approved AMOC on any airplane to which the AMOC applies, notify your principal maintenance inspector (PMI) or principal avionics inspector (PAI), as appropriate, or lacking a principal inspector, your local Flight Standards District Office.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(h) Refer to MCAI Transport Canada Civil Aviation Airworthiness Directive CF-2008-34, dated December 2, 2008; and Bombardier Service Bulletin 670BA-49-012, Revision A, dated August 28, 2008; for related information.

Material Incorporated by Reference

(i) You must use Bombardier Service Bulletin 670BA-49-012, Revision A, dated August 28, 2008, to do the actions required by this AD, unless the AD specifies otherwise.

(1) The Director of the Federal Register approved the incorporation by reference of this service information under 5 U.S.C. 552(a) and 1 CFR part 51.

(2) For service information identified in this AD, contact Bombardier, Inc., 400 Côte-Vertu Road West, Dorval, Québec H4S 1Y9, Canada; telephone 514-855-5000; fax 514-855-7401; e-mail thd.crj@aero.bombardier.com; Internet http://www.bombardier.com.

(3) You may review copies of the service information at the FAA, Transport Airplane Directorate, 1601 Lind Avenue, SW., Renton, Washington. For information on the availability of this material at the FAA, call 425-227-1221 or 425-227-1152.

(4) You may also review copies of the service information that is incorporated by reference at the National Archives and Records Administration (NARA). For information on the availability of this material at NARA, call 202-741-6030, or go to: http://www.archives.gov/federal_register/code_of_federal_regulations/ibr_locations.html.

Issued in Renton, Washington, on October 19, 2009.
Ali Bahrami,
Manager, Transport Airplane Directorate, Aircraft Certification Service.

[FR Doc. E9-25648 Filed 10-28-09; 8:45 am]

BILLING CODE 4910-13-P